DEPARTMENT OF THE INTERIOR

Fish and Wildlife Service

Information Collection Sent to the Office of Management and Budget (OMB) for Approval; OMB Control Number 1018-0094; Federal Fish and Wildlife Permit Applications and Reports—Native Endangered and Threatened Species

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on September 30, 2007. We may not conduct or sponsor and a person is not required to respond to a collection of information unless it displays a currently valid OMB control number. However, under OMB regulations, we may continue to conduct or sponsor this information collection while it is pending at OMB.

DATES: You must submit comments on or before October 29, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this IC, contact Hope Grey by mail, fax, or e-mail (see ADDRESSES) or by telephone at (703) 358-2482.

SUPPLEMENTARY INFORMATION:

OMB Control Number: 1018-0094.

Title: Federal Fish and Wildlife Permit Applications and Reports—Native Endangered and Threatened Species, 50 CFR 13 and 17.

Service Form Numbers: 3-200-54, 3-200-55, and 3-200-56.

Type of Request: Revision of currently approved collection.

Affected Public: Individuals/households, businesses, State and local agencies, private organizations, and scientific and research institutions.

Respondent's Obligation: Required to obtain or retain a benefit.

Frequency of Collection: On occasion for application forms and notifications; annually for reports.

Estimated Annual Nonhour Burden: $55,000 for fees associated with permit applications.

Activity | Number of annual respondents | Number of annual responses | Completion time per response | Annual burden hours
3-200-54 - permit application | 11 | 11 | 3 hours | 33
3-200-54 - annual report | 64 | 64 | 8 hours | 512
3-200-54 - notification of incidental take | 1 | 1 | 1 hour | 1
3-200-54 - notification of change in landowner | 1 | 1 | 1 hour | 1
2-200-55 - permit application | 579 | 579 | 4 hours | 2,316
3-200-55 - annual report | 1,034 | 1,034 | 8 hours | 8,272
3-200-55 - notification of escape of living wildlife | 1 | 1 | 1 hour | 1
3-200-56 - permit application | 60 | 60 | 3 hours | 180
3-200-56 - annual report | 748 | 748 | 10 hours | 7,480
Totals | 2,499 | 2,499 |  | 18,796

Abstract: Our Endangered Species Program uses information that we collect on permit applications to determine the eligibility of applicants for permits requested in accordance with the criteria in various Federal wildlife conservation laws, including:

(1) Endangered Species Act (16 U.S.C. 1531 et seq.).

(2) Migratory Bird Treaty Act (16 U.S.C. 703 et seq.).

(3) Lacey Act (16 U.S.C. 3371 et seq.).

(4) Bald and Golden Eagle Protection Act (16 U.S.C. 668).

(5) Marine Mammal Protection Act (16 U.S.C. 1374).

Service regulations implementing these statutes and treaties are in Chapter I, Subchapter B of Title 50 of the Code of Federal Regulations (CFR). These regulations stipulate general and specific requirements that when met allow us to issue permits to authorize activities that are otherwise prohibited. This IC includes the following permit application forms and the reporting requirements for each permit:

(1) FWS Form 3-200-54 - Enhancement of Survival Permits Associated with Safe Harbor Agreements and Candidate Conservation Agreements with Assurances.

(2) FWS Form 3-200-55 - Permits for Scientific Purposes, Enhancement of Propagation or Survival (i.e, Recovery) and Interstate Commerce.

(3) FWS Form 3-200-56 - Incidental Take Permits Associated with a Habitat Conservation Plan..

Comments: On March 16, 2007, we published in the Federal Register (72 FR 12629) a notice of our intent to request that OMB approve this ICR. In that notice, we solicited comments for 60 days, ending on May 15, 2007. We received one comment. The comment did not address issues surrounding the proposed collection of information or the cost and hour burden estimates. The commenter objected to hunting permits, which are not part of this information collection. We have not made any changes to this collection as a result of this comment.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: August 22, 2007
Hope Grey,
Information Collection Clearance Officer, Fish and Wildlife Service.

FR Doc. E7-19132 Filed 9-26-07; 8:45 am]

Billing Code 4310-55-S